ENVIRONMENTAL PROTECTION AGENCY

[FRL-7145-4]

Notice of Availability of FY 2002 Funds for Water Quality Cooperative Agreements

AGENCY: Environmental Protection Agency (EPA).

ACTION: Notice of availability of Water Quality Cooperative Agreement funds.

SUMMARY: EPA Region 4 (Atlanta) announces that $300,000 to $450,000 in FY 2002 funds is available to fund Water Quality Cooperative Agreements. Project proposals are being solicited from state water pollution control agencies, interstate agencies, tribes, and other public or nonprofit private agencies, institutions, and organizations. Through this solicitation, EPA expects to fund from two to nine projects to support the restoration of impaired water bodies in priority watersheds. Applicants may request $50,000 to $150,000 per project proposal, and a five percent nonfederal match is encouraged.

DATES: Project proposals must be postmarked or sent by electronic mail by 5 p.m. on April 2, 2002, in accordance with guidelines provided in the solicitation.

FOR FURTHER INFORMATION CONTACT: The complete solicitation is available through the Internet at http://www.epa.gov/region4/water/pgtab/cooperativeagreement.html or by contacting Dorothy Rayfield, Chief, Grants and Technical Assistance Section, at 404/562-9278 or rayfield.dorothy@epa.gov. Written inquiries may be sent to the Grants and Technical Assistance Section, Water Management Division, EPA Region 4, Sam Nunn Federal Center, 61 Forsyth Street, SW., Atlanta, Georgia 30303-8960.

SUPPLEMENTARY INFORMATION: Eligible Project Areas: All projects must be implemented within the geographic boundaries of EPA Region 4, which includes the states of Alabama, Florida, Georgia, Kentucky, Mississippi, North Carolina, South Carolina, and Tennessee and some Tribal lands. To be eligible, the project area must be located within a watershed that contains one or more priority water bodies identified on a 303(d) List of Impaired Waters or documented as impaired by an Indian Tribe in the Region. Priority will be given to watersheds which are 11-digit or 14-digit Hydrologic Unit Codes, and watersheds with established implementation plans for improving or restoring water quality. Examples of acceptable implementation plans include local watershed plans, total maximum daily load implementation plans, and river basin plans.

Eligible Project Areas: Eligible activities are those that support the restoration of impaired waters in priority watersheds. Examples of eligible activities include watershed coordination, education, and evaluation of the effectiveness of best management practices in preventing or reducing water pollution. EPA will give priority to projects which actively involve stakeholders and focus on one of the following program areas: Concentrated animal feeding operations, sanitary sewer overflows, combined sewer overflows, storm water, wetlands protection, or biosolids management. Further priority will be given to activities that directly support the implementation of existing implementation plans to improve or restore water quality. In order to receive maximum benefits from the limited funds available, additional consideration will be given to projects which build capacity to protect the watershed, and projects which result in methodologies or outputs that can be used in other watersheds.

Authority: 33 U.S.C. 1254(b)(3) Pub. L. 100-4.

Dated: February 1, 2002.
A. Stanley Meiburg,
Acting Regional Administrator, Region 4.

[FR Doc. 02-3770 Filed 2-14-02; 8:45 am]

BILLING CODE 6560-50-P